DEPARTMENT OF THE INTERIOR

Central Utah Project Completion Act

Agencies: Department of the Interior, Office of the Assistant Secretary—Water and Science.

ACTION: Notice of Intent to Prepare an Environmental Assessment for the Wasatch County Water Efficiency Recycled Water Project.

SUMMARY: Pursuant to the National Environmental Policy Act of 1969, the Central Utah Water Conservancy District and the Department of the Interior announce their intent to prepare an Environmental Assessment on the Wasatch County Water Efficiency Recycled Water Project. The project would make recycled water, which would be part of Central Utah Project (CUP) water, available in the facilities of the Wasatch County Water Efficiency Project (WCWEP), Bonneville Unit, CUP. It would provide an opportunity for more effective and efficient management of water, make efficient use of recycled water as an additional water supply, create opportunities to exchange water for stream and wetland benefits, and encourage the conservation and wise use of water, all of which are objectives of the Central Utah Project Completion Act.

The proposed action would make recycled water which would be part of CUP water available in the WCWEP facilities. All water supply commitments under the existing contracts and agreements will continue to be met.

FOR FURTHER INFORMATION CONTACT: Additional information pertaining to this action may be obtained by contacting Mr. Lynn Hansen, Program Coordinator, Central Utah Project Completion Act Office, 302 East 1860 South, Provo, Utah 84606, by calling (801) 379-1238, or e-mail at lhansen@uc.usbr.gov.

Dated: April 3, 2009.
Reed R. Murray,
Program Director, Central Utah Project Completion Act, Department of the Interior.

[FR Doc. E9-8086 Filed 4-8-09; 8:45 am]

BILLING CODE